DEPARTMENT OF COMMERCE

International Trade Administration

[C-570-167, C-533-927, C-580-920, C-583-877]

Certain Epoxy Resins From the People's Republic of China, India, the Republic of Korea, and Taiwan: Initiation of Countervailing Duty Investigations

AGENCY: Enforcement and Compliance, International Trade Administration, Department of Commerce.

DATES: Applicable April 23, 2024.

FOR FURTHER INFORMATION CONTACT: Nathan James (the People's Republic of China (China)), Eliza DeLong (India), Thomas Martin (the Republic of Korea (Korea)), and Whitley Herndon (Taiwan), AD/CVD Operations, Offices V, V, IV, and IX, Enforcement and Compliance, International Trade Administration, U.S. Department of Commerce, 1401 Constitution Avenue NW, Washington, DC 20230; telephone: (202) 482-5305, (202) 482-3878, (202) 482-3936, and (202) 482-6274, respectively.

SUPPLEMENTARY INFORMATION:

The Petitions

On April 3, 2024, the U.S. Department of Commerce (Commerce) received countervailing duty (CVD) petitions concerning imports of certain epoxy resins (epoxy resins) from China, India, Korea, and Taiwan filed in proper form on behalf of U.S. Epoxy Resin Producers Ad Hoc Coalition (the petitioner).¹ The CVD petitions were accompanied by antidumping duty (AD) petitions concerning imports of epoxy resins from China, India, Korea, Taiwan, and Thailand.²

¹ See Petitioner's Letter, “Petitions for the Imposition of Antidumping and Countervailing Duties,” dated April 3, 2024 (the Petitions). The members of the U.S. Epoxy Resin Producers Ad Hoc Coalition are Olin Corporation and Westlake Corporation.

² Id.

Between April 8 and 16, 2024, Commerce requested supplemental information pertaining to certain aspects of the Petitions.³ Between April 11 and 18, 2024, the petitioner filed timely responses to these requests for additional information.⁴

³ See Commerce's Letters, “Petition for the Imposition of Countervailing Duties on Imports of Certain Epoxy Resins from China: Supplemental Questions,” dated April 9, 2024; “Petition for the Imposition of Countervailing Duties on Imports of Certain Epoxy Resins from India: Supplemental Questions,” dated April 9, 2024; “Petition for the Imposition of Countervailing Duties on Imports of Certain Epoxy Resins from South Korea: Supplemental Questions,” dated April 8, 2024; “Petitions for the Imposition of Countervailing Duties on Imports of Certain Epoxy Resins from Taiwan: Supplemental Questions,” dated April 8, 2024; and “Supplemental Questions,” dated April 8, 2024 (General Issues Questionnaire); see also Memorandum, “Phone Call,” dated April 16, 2024 (April 16 Memorandum).

⁴ See Petitioner's Letters, “Petitioner's Response to Volume I Supplemental Questionnaire,” dated April 12, 2024 (First General Issues Supplement); “Petitioner's Response to Volume VIII Supplemental Questionnaire (China Countervailing Duties),” dated April 15, 2024; “Petitioner's Response to Volume VIII Supplemental Questionnaire (India Countervailing Duties),” dated April 11, 2024; “Petitioner's Response to Volume IX Supplemental Questionnaire (South Korea Countervailing Duties),” dated April 11, 2024; “Petitioner's Response to Volume X Supplemental Questionnaire (Taiwan Countervailing Duties),” dated April 15, 2024; and “Petitioner's Response to Second General Issues Supplemental Questionnaire,” dated April 18, 2024 (Second General Issues Supplement).

In accordance with section 702(b)(1) of the Tariff Act of 1930, as amended (the Act), the petitioner alleges that the Government of China (GOC), the Government of India (GOI), the Government of Korea (GOK), and the Taiwan Authorities (TA) are providing countervailable subsidies, within the meaning of sections 701 and 771(5) of the Act, to producers of epoxy resins from China, India, Korea, and Taiwan, respectively, and that such imports are materially injuring, or threatening material injury to, the domestic industry producing epoxy resins in the United States. Consistent with section 702(b)(1) of the Act and 19 CFR 351.202(b), for those alleged programs on which we are initiating CVD investigations, the Petitions were accompanied by information reasonably available to the petitioner supporting its allegations.

Commerce finds that the petitioner filed the Petitions on behalf of the domestic industry because the petitioner is an interested party as defined in section 771(9)(F) of the Act.⁵ Commerce also finds that the petitioner demonstrated sufficient industry support with respect to the initiation of the requested CVD investigations.⁶

⁵ The members of the petitioning coalition are interested parties under section 771(9)(C) of the Act.

⁶ See section on “Determination of Industry Support for the Petitions,” infra.

Period of Investigation

Because the Petitions were filed on April 3, 2024, the period of investigation (POI) for China, India, Korea, and Taiwan investigations is January 1, 2023, through December 31, 2023.⁷

⁷ See 19 CFR 351.204(b)(2).

Scope of the Investigations

The merchandise covered by these investigations are epoxy resins from China, India, Korea, and Taiwan. For a full description of the scope of these investigations, see the appendix to this notice.

Comments on the Scope of the Investigations

On April 8 and 16, 2024, Commerce requested information and clarification from the petitioner regarding the proposed scope to ensure that the scope language in the Petitions is an accurate reflection of the products for which the domestic industry is seeking relief.⁸ On April 12 and 18, 2024, the petitioner provided clarifications and revised the scope.⁹ The description of merchandise covered by these investigations, as described in the appendix to this notice, reflects these revisions.

⁸ See General Issues Questionnaire; see also April 16 Memorandum.

⁹ See First General Issues Supplement at 3-10 and Exhibit I-S4; see also Second General Issues Supplement at 2-3 and Exhibit I-SS1.

As discussed in the Preamble to Commerce's regulations, we are setting aside a period for interested parties to raise issues regarding product coverage (i.e., scope).¹⁰ Commerce will consider all comments received from interested parties and, if necessary, will consult with interested parties prior to the issuance of the preliminary determinations. If scope comments include factual information, all such factual information should be limited to public information.¹¹ To facilitate preparation of its questionnaires, Commerce requests that scope comments be submitted by 5:00 p.m. Eastern Time (ET) on May 13, 2024, which is 20 calendar days from the signature date of this notice.¹² Any rebuttal comments, which may include factual information, must be filed by 5:00 p.m. ET on May 23, 2024, which is 10 calendar days from the initial comment deadline.

¹⁰ See Antidumping Duties; Countervailing Duties; Final Rule, 62 FR 27296, 27323 (May 19, 1997) (Preamble).

¹¹ See 19 CFR 351.102(b)(21) (defining “factual information”).

¹² See 19 CFR 351.303(b)(1).

Commerce requests that any factual information that parties consider relevant to the scope of the investigations be submitted during that time period. However, if a party subsequently finds that additional factual information pertaining to the scope of the investigations may be relevant, the party must contact Commerce and request permission to submit the additional information. All scope comments must be filed simultaneously on the records of the concurrent AD and CVD investigations.

Filing Requirements

All submissions to Commerce must be filed electronically via Enforcement and Compliance's Antidumping Duty and Countervailing Duty Centralized Electronic Service System (ACCESS), unless an exception applies.¹³ An electronically filed document must be received successfully in its entirety by the time and date it is due.

¹³ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the GOC, GOI, GOK, and TA of the receipt of the Petitions and provided an opportunity for consultations with respect to the Petitions.¹⁴ Commerce held consultations with the GOK on April 17, 2024 ¹⁵ and the TA April 19, 2024.¹⁶ The GOC and the GOI did not request consultations.¹⁷

¹⁴ See Commerce's Letters, “Petition for the Imposition of Countervailing Duties on Imports of Certain Epoxy Resins from China: Invitation for Consultations,” dated April 15, 2024; “Countervailing Duty Petition on Certain Epoxy Resins from India: Invitation for Consultations,” dated April 3, 2024; “Countervailing Duty Petition on Certain Epoxy Resins from the Republic of Korea,” dated April 8, 2024; and “Countervailing Duty Petition on Certain Epoxy Resins from Taiwan: Invitation for Consultations to Discuss Countervailing Duty Petition,” dated April 4, 2024.

¹⁵ See Memorandum, “Countervailing Duty Petition Regarding Certain Epoxy Resins from the Republic of Korea (Korea): Consultations with Officials from the Government of Korea,” dated April 19, 2024.

¹⁶ See Memorandum, “Countervailing Duty Petition Regarding Certain Epoxy Resins from Taiwan: Consultations with the Taiwan Authorities,” dated April 19, 2024.

¹⁷ In lieu of consultations, the GOC submitted comments regarding the initiation. See GOC's Letter, “China-USA Consultations with Respect to the Possible Initiation of Countervailing Investigation against Certain Epoxy Resins from China,” dated April 18, 2024.

Determination of Industry Support for the Petitions

Section 702(b)(1) of the Act requires that a petition be filed on behalf of the domestic industry. Section 702(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁸ they do so for different purposes and pursuant to a separate and distinct authority. In addition, Commerce's determination is subject to limitations of time and information. Although this may result in different definitions of the like product, such differences do not render the decision of either agency contrary to law.¹⁹

¹⁸ See section 771(10) of the Act.

¹⁹ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.²⁰ Based on our analysis of the information submitted on the record, we have determined that epoxy resins, as described in the domestic like product definition set forth in the Petitions, constitute a single domestic like product, and we have analyzed industry support in terms of that domestic like product.²¹

²⁰ See Petitions at Volume I (pages 17-21 and Exhibits I-18 through I-23); see also First General Issues Supplement at 12-15 and Exhibit I-S6; and Second General Issues Supplement at 8.

²¹ For a discussion of the domestic like product analysis as applied to these cases and information regarding industry support, see Checklists, “Countervailing Duty Investigation Initiation Checklists: Certain Epoxy Resins from the People's Republic of China, India, the Republic of Korea, Taiwan, and Thailand,” dated concurrently with, and hereby adopted by, this notice (Country-Specific CVD Initiation Checklists), at Attachment II, Analysis of Industry Support for the Antidumping and Countervailing Duty Petitions Covering Certain Epoxy Resins from the People's Republic of China, India, the Republic of Korea, Taiwan, and Thailand (Attachment II). These checklists are on file electronically via ACCESS.

In determining whether the petitioner has standing under section 702(c)(4)(A) of the Act, we considered the industry support data contained in the Petitions with reference to the domestic like product as defined in the “Scope of the Investigations,” in the appendix to this notice. To establish industry support, the petitioner provided its own production of the domestic like product in 2023 and compared this to total production for the domestic like product by the U.S. epoxy resins industry.²² We relied on the data provided by the petitioner for purposes of measuring industry support.²³ Our review of the data provided in the Petitions, the First General Issues Supplement, the Second General Issues Supplement, and other information readily available to Commerce indicates that the petitioner has established industry support for the Petitions.²⁴ First, the Petitions established support from domestic producers (or workers) accounting for more than 50 percent of the total production of the domestic like product and, as such, Commerce is not required to take further action to evaluate industry support (e.g., polling).²⁵ Second, the domestic producers (or workers) have met the statutory criteria for industry support under section 702(c)(4)(A)(i) of the Act because the domestic producers (or workers) who support the Petitions account for at least 25 percent of the total production of the domestic like product.²⁶ Finally, the domestic producers (or workers) have met the statutory criteria for industry support under section 702(c)(4)(A)(ii) of the Act because the domestic producers (or workers) who support the Petitions account for more than 50 percent of the production of the domestic like product produced by that portion of the industry expressing support for, or opposition to, the Petitions.²⁷ Accordingly, Commerce determines that the Petitions were filed on behalf of the domestic industry within the meaning of section 702(b)(1) of the Act.²⁸

²² See Petitions at Volume I (pages 6-7 and Exhibit I-5); see also First General Issues Supplement at 10-12 and Exhibits I-S2 and I-S5; and Second General Issues Supplement at 3-8 and Exhibits I-SS2 through I-SS5.

²³ See Petitions at Volume I (pages 6-7 and Exhibit I-5); see also First General Issues Supplement at 10-12 and Exhibits I-S2 and I-S5; and Second General Issues Supplement at 3-8 and Exhibits I-SS2 through I-SS5. For further discussion, see Attachment II of the Country-Specific AD Initiation Checklists.

²⁴ See Attachment II of the Country-Specific CVD Initiation Checklists.

²⁵ Id.; see also section 702(c)(4)(D) of the Act.

²⁶ See Attachment II of the Country-Specific CVD Initiation Checklists.

²⁷ Id.

²⁸ Id.

Injury Test

Because China, India, Korea, and Taiwan are “Subsidies Agreement Countries” within the meaning of section 701(b) of the Act, section 701(a)(2) of the Act applies to these investigations. Accordingly, the ITC must determine whether imports of the subject merchandise from China, India, Korea, and Taiwan materially injure, or threaten material injury to, a U.S. industry.

Allegations and Evidence of Material Injury and Causation

The petitioner alleges that imports of the subject merchandise are benefiting from countervailable subsidies and that such imports are causing, or threaten to cause, material injury to the U.S. industry producing the domestic like product. In addition, the petitioner alleges that subject imports from Korea and Taiwan exceed the negligibility threshold provided for under section 771(24)(A) of the Act.²⁹

²⁹ See Petitions at Volume I (page 22 and Exhibit I-7).

With regard to China, while the allegedly subsidized imports do not exceed the statutory requirements for negligibility,³⁰ the petitioner alleges and provides supporting evidence that: (1) a significant portion of the imported epoxy resins entering through Canada into the U.S. market are produced in China, and once the transshipment issue is corrected, imports from China are not negligible; ³¹ and (2) there is the potential that imports from China will imminently exceed the negligibility threshold and, therefore, are not negligible for purposes of a threat determination.³² With regard to India, while the allegedly subsidized imports do not exceed the statutory requirements for negligibility,³³ the petitioner alleges and provides supporting evidence that there is the potential that imports from India will imminently exceed the negligibility threshold and, therefore, are not negligible for purposes of a threat determination.³⁴ The petitioner's arguments regarding the potential for imports from India and China to imminently exceed the negligibility threshold are consistent with the statutory criteria for “negligibility in threat analysis” under section 771(24)(A)(iv) of the Act, which provides that imports shall not be treated as negligible if there is a potential that subject imports from a country will imminently exceed the statutory requirements for negligibility.

³⁰ Id. at 23-24 and Exhibits I-7, I-14, I-24, and I-25.

³¹ Id. at 23-25 and Exhibits I-7, I-14, I-24, and I-25.

³² Id. at 23 and Exhibit I-31; see also First General Issues Supplement at 15-17 and I-S7.

³³ See Petitions at Volume I (page 25-26 and Exhibit I-24).

³⁴ Id. at 25-26.

The petitioner contends that the industry's injured condition is illustrated by the significant volume of subject imports; reduced market share; underselling and price depression and/or suppression; lost sales and revenues; and adverse impact on U.S. shipments, production, capacity utilization, and financial performance.³⁵ We assessed the allegations and supporting evidence regarding material injury, threat of material injury, causation, cumulation, as well as negligibility, and we have determined that these allegations are properly supported by adequate evidence and meet the statutory requirements for initiation.³⁶

³⁵ Id. at 22-46 and Exhibits I-4 through I-7, I-14, I-16, I-22, I-24 through I-26, and I-28 through I-31; see also First General Issues Supplement at 17 and Exhibit I-S8; and Second General Issues Supplement at 8 and Exhibit I-SS6.

³⁶ See Country-Specific CVD Initiation Checklists at Attachment III, Analysis of Allegations and Evidence of Material Injury and Causation for the Antidumping and Countervailing Duty Petitions Covering Certain Epoxy Resins from the People's Republic of China, India, the Republic of Korea, Taiwan, and Thailand.

Initiation of CVD Investigations

Based upon the examination of the Petitions and supplemental responses, we find that they meet the requirements of section 702 of the Act. Therefore, we are initiating CVD investigations to determine whether imports of epoxy resins from China, India, Korea, and Taiwan benefit from countervailable subsidies conferred by the GOC, GOI, GOK, and TA, respectively. In accordance with section 703(b)(1) of the Act and 19 CFR 351.205(b)(1), unless postponed, we will make our preliminary determinations no later than 65 days after the date of these initiations.

China

Based on our review of the Petitions, we find that there is sufficient information to initiate a CVD investigation on 16 of 18 programs alleged by the petitioner. For a full discussion of the basis for our decision to initiate on each program, see the China CVD Initiation Checklist.

India

Based on our review of the Petitions, we find that there is sufficient information to initiate a CVD investigation on 15 of 16 of the programs alleged by the petitioner. For a full discussion of the basis for our decision to initiate on each program, see the India CVD Initiation Checklist.

Korea

Based on our review of the Petitions, we find that there is sufficient information to initiate a CVD investigation on all 32 programs alleged by the petitioner. For a full discussion of the basis for our decision to initiate on each program, see the Korea CVD Initiation Checklist.

Taiwan

Based on our review of the Petitions, we find that there is sufficient information to initiate a CVD investigation on 22 of the 28 programs alleged by the petitioner. For a full discussion of the basis for our decision to initiate on each program, see the Taiwan CVD Initiation Checklist.

Respondent Selection

In the Petitions, the petitioner identified 28 companies in China, six companies in India, three companies in Korea, and four companies in Taiwan (as producers and/or exporters of epoxy resins.³⁷ Commerce intends to follow its standard practice in CVD investigations and calculate company-specific subsidy rates in these investigations. In the event that Commerce determines that the number of companies is large and it cannot individually examine each company based on Commerce's resources, where appropriate, Commerce intends to select respondents based on U.S. Customs and Border Protection (CBP) data for U.S. imports of epoxy resins during the POI under the appropriate Harmonized Tariff Schedule of the United States subheadings listed within the “Scope of the Investigations” in the appendix.

³⁷ See Petitions at Volume I (page 17 and Exhibit I-17); see also First General Issues Supplement at 2-3 and Exhibits I-S1 and I-S3; and Second General Issues Supplement at 1.

On April 18, 2024, Commerce released the CBP data for imports of epoxy resins from China, India, Korea, and Taiwan under administrative protective order (APO) to all parties with access to information protected by APO and indicated that interested parties wishing to comment regarding the CBP data and/or respondent selection must do so within three business days of the publication date of the notice of initiation of these investigations.³⁸ Comments must be filed electronically using ACCESS. An electronically filed document must be received successfully, in its entirety, by ACCESS no later than 5:00 p.m. ET on the date noted above. Commerce will not accept rebuttal comments regarding the CBP data or respondent selection.

³⁸ See Memoranda, “Countervailing Duty Petition on Certain Epoxy Resins from China: Release of Data from U.S. Customs and Border Protection,” dated April 18, 2024; “Countervailing Duty Investigation of Certain Epoxy Resins from India: Release of U.S. Customs and Border Protection Entry Data,” dated April 18, 2024; “Countervailing Duty Investigation of Certain Epoxy Resins from the Republic of Korea (Korea): Release of U.S. Customs and Border Protection Entry Data,” dated April 18, 2024; and “Petition for the Imposition of Countervailing Duties on Imports of Certain Epoxy Resins from Taiwan: Release of U.S. Customs and Border Protection Entry Data,” dated April 18, 2024.

Interested parties must submit applications for disclosure under APO in accordance with 19 CFR 351.305(b). Instructions for filing such applications may be found on Commerce's website at https://www.trade.gov/administrative-protective-orders.

Distribution of Copies of the Petitions

In accordance with section 702(b)(4)(A) of the Act and 19 CFR 351.202(f), a copy of the public version of the Petitions has been provided to the GOC, GOI, GOK, and TA via ACCESS. To the extent practicable, we will attempt to provide a copy of the public version of the Petitions to each exporter named in the Petitions, as provided under 19 CFR 351.203(c)(2).

ITC Notification

Commerce will notify the ITC of its initiation, as required by section 702(d) of the Act.

Preliminary Determination by the ITC

The ITC will preliminarily determine, within 45 days after the date on which the Petitions was filed, whether there is a reasonable indication that imports of epoxy resins from China, India, Korea, and/or Taiwan are materially injuring, or threatening material injury to, a U.S. industry.³⁹ A negative ITC determination for any country will result in the investigation being terminated with respect to that country.⁴⁰ Otherwise, these CVD investigations will proceed according to statutory and regulatory time limits.

³⁹ See section 703(a)(1) of the Act.

⁴⁰ Id.

Submission of Factual Information

Factual information is defined in 19 CFR 351.102(b)(21) as: (i) evidence submitted in response to questionnaires; (ii) evidence submitted in support of allegations; (iii) publicly available information to value factors of production under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴¹ and, if the information is submitted to rebut, clarify, or correct factual information already on the record, to provide an explanation identifying the information already on the record that the factual information seeks to rebut, clarify, or correct.⁴² Time limits for the submission of factual information are addressed in 19 CFR 351.301, which provides specific time limits based on the type of factual information being submitted. Interested parties should review the regulations prior to submitting factual information in these investigations.

⁴¹ See 19 CFR 351.301(b).

⁴² See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴³ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁴⁴

⁴³ See 19 CFR 351.302.

⁴⁴ See 19 CFR 351.301; see also Extension of Time Limits; Final Rule, 78 FR 57790 (September 20, 2013) (Time Limits Final Rule), available at https://www.gpo.gov/fdsys/pkg/FR-2013-09-20/html/2013-22853.htm.

Certification Requirements

Any party submitting factual information in an AD or CVD proceeding must certify to the accuracy and completeness of that information.⁴⁵ Parties must use the certification formats provided in 19 CFR 351.303(g).⁴⁶ Commerce intends to reject factual submissions if the submitting party does not comply with the applicable certification requirements.

⁴⁵ See section 782(b) of the Act.

⁴⁶ See Certification of Factual Information to Import Administration During Antidumping and Countervailing Duty Proceedings, 78 FR 42678 (July 17, 2013) (Final Rule); see also frequently asked questions regarding the Final Rule, available at https://enforcement.trade.gov/tlei/notices/factual_info_final_rule_FAQ_07172013.pdf.

Notification to Interested Parties

Interested parties must submit applications for disclosure under administrative protective order in accordance with 19 CFR 351.305. Parties wishing to participate in these investigations should ensure that they meet the requirements of 19 CFR 351.103(d) (e.g., by filing the required letters of appearance). Note that Commerce has amended certain of its requirements pertaining to the service of documents in 19 CFR 351.303(f).⁴⁷

⁴⁷ See Administrative Protective Order, Service, and Other Procedures in Antidumping and Countervailing Duty Proceedings, 88 FR 67069 (September 29, 2023).

This notice is issued and published pursuant to sections 702 and 777(i) of the Act, and 19 CFR 351.203(c).

Dated: April 23, 2024.
Ryan Majerus,
Deputy Assistant Secretary for Policy and Negotiations, performing the non-exclusive functions and dutiesof the Assistant Secretary for Enforcement and Compliance.

Appendix—Scope of the Investigations

The merchandise subject to these investigations are fully or partially uncured epoxy resins, also known as epoxide resins, polyepoxides, oxirane resins, ethoxyline resins, diglycidyl ether of bisphenol, (chloromethyl)oxirane, or aromatic diglycidyl, which are polymers or prepolymers containing epoxy groups (i.e., three-membered ring structures comprised of two carbon atoms and one oxygen atom). Epoxy resins range in physical form from low viscosity liquids to solids. All epoxy resins are covered by the scope of these investigations irrespective of physical form, viscosity, grade, purity, molecular weight, or molecular structure, and packaging.

Epoxy resins may contain modifiers or additives, such as hardeners, curatives, colorants, pigments, diluents, solvents, thickeners, fillers, plasticizers, softeners, flame retardants, toughening agents, catalysts, Bisphenol F, and ultraviolet light inhibitors, so long as the modifier or additive has not chemically reacted so as to cure the epoxy resin or convert it into a different product no longer containing epoxy groups. Such epoxy resins with modifiers or additives are included in the scope where the epoxy resin component comprises no less than 30 percent of the total weight of the product. The scope also includes blends of epoxy resins with different types of epoxy resins, with or without the inclusion of modifiers and additives, so long as the combined epoxy resin component comprises at least 30 percent of the total weight of the blend.

Epoxy resins that enter as part of a system or kit with separately packaged co-reactants, such as hardeners or curing agents, are within the scope. The scope does not include any separately packaged co-reactants that would not fall within the scope if entered on their own.

The scope includes merchandise matching the above description that has been processed in a third country, including by commingling, diluting, introducing, or removing modifiers or additives, or performing any other processing that would not otherwise remove the merchandise from the scope of the investigations if performed in the subject country.

The scope also includes epoxy resin that is commingled or blended with epoxy resin from sources not subject to these investigations. Only the subject component of such commingled products is covered by the scope of these investigations.

Excluded from the scope are phenoxy resins, which are polymers with a weight greater than 11,000 Daltons, a Melt Flow Index (MFI) at 200 °C (392 °F) no less than 4 grams and no greater than 70 grams per 10 min, Glass-Transition Temperatures (Tg) no less than 80°C (176 °F) and no greater than 100°C (212 °F), and which contain no epoxy groups other than at the terminal ends of the molecule.

Excluded from the scope are certain paint and coating products, which are blends, mixtures, or other formulations of epoxy resin, curing agent, and pigment, in any form, packaged in one or more containers, wherein (1) the pigment represents a minimum of 10 percent of the total weight of the product, (2) the epoxy resin represents a maximum of 80 percent of the total weight of the product, and (3) the curing agent represents 5 to 40 percent of the total weight of the product.

Excluded from the scope are preimpregnated fabrics or fibers, often referred to as “pre-pregs,” which are composite materials consisting of fabrics or fibers (typically carbon or glass) impregnated with epoxy resin.

This merchandise is currently classifiable under Harmonized Tariff Schedule of the United States (HTSUS) subheading 3907.30.0000. Subject merchandise may also be entered under subheadings 3907.29.0000, 3824.99.9397, 3214.10.0020, 2910.90.9100, 2910.90.9000, 2910.90.2000, and 1518.00.4000. The HTSUS subheadings are provided for convenience and customs purposes only; the written description of the scope is dispositive.

[FR Doc. 2024-09159 Filed 4-26-24; 8:45 am]

BILLING CODE 3510-DS-P